DEPARTMENT OF TRANSPORTATION

Federal Aviation Administration

14 CFR Part 39

[Docket No. FAA-2005-22484; Directorate Identifier 2003-NM-270-AD; Amendment 39-14286; AD 2005-19-21]

RIN 2120-AA64

Airworthiness Directives; Airbus Model A330-202, -223, -243, and -343 Airplanes; and Model A340-313 Airplanes

AGENCY: Federal Aviation Administration (FAA), Department of Transportation (DOT).

ACTION: Final rule; request for comments.

SUMMARY: The FAA is adopting a new airworthiness directive (AD) for certain Airbus Model A330-202, -223, -243, and -343 airplanes; and certain Model A340-313 airplanes. This AD requires a one-time inspection for discrepancies of the attachment bolts of the windshield central retainer, and corrective actions if necessary. This AD results from a report indicating that, during production, the windshield central retainer may have been installed with attachment bolts that were too short, which prevented the thread of the bolt from fully engaging in the self-locking nut. We are issuing this AD to prevent loosened attachment bolts, which could result in loss of the windshield and consequent reduced structural integrity of the airplane.

DATES: Effective October 7, 2005.

The Director of the Federal Register approved the incorporation by reference of certain publications listed in the AD as of October 7, 2005.

We must receive comments on this AD by November 21, 2005.

ADDRESSES: Use one of the following addresses to submit comments on this AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Airbus, 1 Rond Point Maurice Bellonte, 31707 Blagnac Cedex, France, for service information identified in this AD.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION:

Discussion

The Direction Générale de l'Aviation Civile (DGAC), which is the airworthiness authority for France, notified us that an unsafe condition may exist on certain Airbus Model A330-202, -223, -243, and -343 airplanes, and Model A340-313 airplanes. The windshield central retainer is attached with long-thread bolts of a certain length. During production on affected airplanes, the windshield central retainer may have been installed with slightly shorter bolts having standard thread length. In that case, despite proper torquing, the bolt thread might not fully engage in the self-locking nut. Loosened attachment bolts, if not corrected, could result in loss of the windshield and consequent reduced structural integrity of the airplane.

Relevant Service Information

Airbus has issued Service Bulletins A330-56-3006 and A340-56-4006, both Revision 01, dated March 24, 2003. The service bulletins describe procedures for inspecting the windshield central retainer to measure the protrusion of the attachment bolts, and replacing inadequate bolts and their corresponding nuts. Accomplishing the actions specified in the service information is intended to adequately address the unsafe condition. To ensure the continued airworthiness of these airplanes in France, the DGAC mandated the service information and issued French airworthiness directives 2003-123(B) R1 and 2003-124(B) R1, both dated April 16, 2003.

FAA's Determination and Requirements of This AD

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. We have examined the DGAC's findings, evaluated all pertinent information, and determined that we need to issue an AD for airplanes of this type design that are certificated for operation in the United States.

Therefore, we are issuing this AD to prevent loosened attachment bolts of the windshield central retainer, which could result in loss of the windshield and reduced structural integrity of the airplane. This AD requires accomplishing the actions specified in the service information described previously, except as discussed below.

Clarification of Inspection Terminology

The service bulletins refer to a “detailed visual inspection” for measuring the length of the attachment bolts. We have determined that the procedures in the service bulletins should be considered a “detailed inspection.” Note 1 in this AD defines this type of inspection.

Costs of Compliance

None of the airplanes affected by this action are on the U.S. Register. All airplanes affected by this AD are currently operated by non-U.S. operators under foreign registry; therefore, they are not directly affected by this AD action. However, we consider this AD necessary to ensure that the unsafe condition is addressed if any affected airplane is imported and placed on the U.S. Register in the future. In that event, the required actions would take about 1 work hour per airplane, at an average labor rate of $65 per work hour. Based on these figures, we estimate the cost of this AD to be $65 per airplane.

FAA's Determination of the Effective Date

No airplane affected by this AD is currently on the U.S. Register. Therefore, providing notice and opportunity for public comment is unnecessary before this AD is issued, and this AD may be made effective in less than 30 days after it is published in the Federal Register.

Comments Invited

This AD is a final rule that involves requirements that affect flight safety and was not preceded by notice and an opportunity for public comment; however, we invite you to submit any relevant written data, views, or arguments regarding this AD. Send your comments to the address listed under the ADDRESSES section. Include “Docket No. FAA-2005-22484; Directorate Identifier 2003-NM-270-AD” at the beginning of your comments. We specifically invite comments on the overall regulatory, economic, environmental, and energy aspects of the AD that might suggest a need to modify it.

We will post all comments we receive, without change, to http://dms.dot.gov, including any personal information you provide. We will also post a report summarizing each substantive verbal contact with FAA personnel concerning this AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2005-19-21 Airbus: Amendment 39-14286. Docket No. FAA-2005-22484; Directorate Identifier 2003-NM-270-AD.

Effective Date

(a) This AD becomes effective October 7, 2005.

Affected ADs

(b) None.

Applicability

(c) This AD applies to the Airbus airplanes, certificated in any category, listed in Table 1 of this AD.

Table 1.—Applicability
Airbus model— | As identified in Airbus service bulletin—
A330-202, -223, -243, and -343 airplanes | A330-56-3006, Revision 01, dated March 24, 2003.
A340-313 airplanes | A340-56-4006, Revision 01, dated March 24, 2003.

Unsafe Condition

(d) This AD results from a report indicating that, during production, the windshield central retainer may have been installed with attachment bolts that were too short, which prevented the thread of the bolt from fully engaging in the self-locking nut. We are issuing this AD to prevent loosened attachment bolts, which could result in loss of the windshield and consequent reduced structural integrity of the airplane.

Compliance

(e) You are responsible for having the actions required by this AD performed within the compliance times specified, unless the actions have already been done.

Inspection

(f) Within 6 months after the effective date of this AD, perform a detailed inspection of the windshield central retainer for discrepancies of the attachment bolts, in accordance with the Accomplishment Instructions of Airbus Service Bulletin A330-56-3006 or A340-56-4006, both excluding Appendix 01, Revision 01, dated March 24, 2003; as applicable. If the protrusion of any attachment bolt is not within the limits specified in the service bulletin, replace the bolt and corresponding nut with new parts before further flight in accordance with the service bulletin.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Modification According to Previous Issue of Service Bulletin

(g) Inspecting the windshield central retainer, and doing applicable corrective actions, is also acceptable for compliance with the requirements of paragraph (f) of this AD if done before the effective date of this AD in accordance with the Accomplishment Instructions of Airbus Service Bulletin A330-56-3006 or A340-56-4006, both dated March 12, 2003; as applicable.

No Reporting Requirement

(h) Although Airbus Service Bulletins A330-56-3006 and A340-56-4006 specify sending an inspection report to the manufacturer, this AD does not include that requirement.

Alternative Methods of Compliance (AMOCs)

(i)(1) The Manager, International Branch, ANM-116, Transport Airplane Directorate, FAA, has the authority to approve AMOCs for this AD, if requested in accordance with the procedures found in 14 CFR 39.19.

(2) Before using any AMOC approved in accordance with 14 CFR 39.19 on any airplane to which the AMOC applies, notify the appropriate principal inspector in the FAA Flight Standards Certificate Holding District Office.

Related Information

(j) French airworthiness directives 2003-123(B) R1 and 2003-124(B) R1, both dated April 16, 2003, also address the subject of this AD.

Material Incorporated by Reference

(k) To perform the actions that are required by this AD, unless the AD specifies otherwise, you must use Airbus Service Bulletin A330-56-3006, excluding Appendix 01, Revision 01, dated March 24, 2003; or Airbus Service Bulletin A340-56-4006, excluding Appendix 01, Revision 01, dated March 24, 2003; as applicable. The Director of the Federal Register approved the incorporation by reference of these documents in accordance with 5 U.S.C. 552(a) and 1 CFR part 51. Contact Airbus, 1 Rond Point Maurice Bellonte, 31707 Blagnac Cedex, France, for a copy of this service information. You may review copies at the Docket Management Facility, U.S. Department of Transportation, 400 Seventh Street, SW., room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on September 13, 2005.
Kalene C. Yanamura,
Acting Manager, Transport Airplane Directorate, Aircraft Certification Service.

[FR Doc. 05-18782 Filed 9-21-05; 8:45 am]

BILLING CODE 4910-13-P